FEDERAL RETIREMENT THRIFT INVESTMENT BOARD

Sunshine Act Meetings

Agenda

Federal Retirement Thrift Investment Board Meeting Agenda June 25, 2018 In Person 8:30 a.m.

Open Session

1. Approval of the Minutes for the May 30, 2018 Board Member Meeting

2. Monthly Reports

(a) Participant Activity

(b) Legislative Report

(c) Investment Policy

3. Vendor Financials

4. IT Update

5. Strategic Acquisition

Closed Session

Information covered under 5 U.S.C. 552b (c)(4), (c)(9)(B).

CONTACT PERSON FOR MORE INFORMATION: Kimberly Weaver, Director Office of External Affairs (202) 942-1640

Dated: June 14, 2018.
Dharmesh Vashee,
Deputy General Counsel, Federal Retirement Thrift Investment Board.

[FR Doc. 2018-13175 Filed 6-15-18; 11:15 am]

BILLING CODE 6760-01-P